DEPARTMENT OF ENERGY

Federal Energy Regulatory Commission

[Docket No. EL07-18-000]

New York Independent System Operator, Inc., Complainants v. SCS/Astoria Energy LLC, Respondent; Notice of Complaint

December 4, 2006.

Take notice that on December 1, 2006, the New York Independent System Operator, Inc. (NYISO) tendered for filing a complaint against SCS/Astoria Energy LLC (SCS Astoria). NYISO alleges that SCS Astoria failed to adhere to the tariff standards for Installed Capacity (ICAP) Supplier qualification. NYISO asks the Commission to require SCS Astoria to conform to the NYISO's services tariff requirements to qualify as an ICAP Supplier, and requests the Commission to use its remedial authority to place affected market participants in the position they would have been in if SCS Astoria had adhered to the tariff standards for ICAP certification.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on January 2, 2007.

Magalie R. Salas,
Secretary.

[FR Doc. E6-21067 Filed 12-11-06; 8:45 am]

BILLING CODE 6717-01-P